ENVIRONMENTAL PROTECTION AGENCY

[OPP-2003-0335; FRL-7330-3]

Pesticides: Procedural Guidance for EPA's Office of Pesticide Programs Procedures Concerning the Development, Modification, and Implementation of Policy Guidance Documents; Notice of Availability

AGENCY: Enironmental Protection Agency (EPA).

ACTION: Notice.

SUMMARY: EPA is announcing the availability of a paper discussing procedural guidance for policy development in the Office of Pesticide Programs (OPP). These procedures have two goals: To increase public participation in the development, modification and implementation of OPP policy guidance documents; and to clarify that while such documents are non-binding policy statements and not legally binding rules, they nonetheless play an important role in helping to ensure a consistent starting point for OPP decision making. A draft of this document was made available for comment on March 12, 2003. A document summarizing EPA's response to public comments on the draft is also available in EPA's docket.

FOR FURTHER INFORMATION CONTACT: William L. Jordan, Senior Policy Adviser (7501C), Office of Pesticide Programs, Environmental Protection Agency, 1200 Pennsylvania Ave., NW., Washington, DC 20460-0001; telephone number: (703) 305-1049; fax number: (703) 308-4776; e-mail address: jordan.william@epa.gov.

SUPPLEMENTARY INFORMATION:

I. General Information

A. Does this Action Apply to Me?

This action is directed to the public in general, and may be of interest to a wide range of stakholders, including environmental, human health, and agricultural advocates; the chemical industry; pesticide users; and members of the public interested in the use of pesticides. The Agency has not attempted to describe all the persons or entities who may be interested in or affected by this action. If you have any questions regarding the applicability of this action to a particular entity, consult the person listed under FOR FURTHER INFORMATION CONTACT

.

B. How Can I Get Copies of this Document and Other Related Information?

1. Docket. EPA has established an official public docket for this action under docket identification (ID) number OPP-2003-0335. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805

.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

II. What Action is the Agency Taking?

EPA is making available a paper on procedures for developing, modifying, and implementing its policy guidance documents concerning the regulation of pesticides. These procedures have two goals. The first is to increase public participation in the development, modification, and implementation of OPP policy guidance documents; the second is to clarify that while such documents are not binding policy statements and are not legally binding rules, they nonetheless play an important role in helping to ensure a consistent starting point for OPP decision making.

EPA has considered comments received on this document, and has revised the paper in response to comments, as appropriate. EPA is also including in the docket for this action a response to all significant comments.

List of Subjects

Environmental protection, Pesticides, Policy guidance.

Dated: November 10, 2003.
James Jones
Director, Office of Pesticide Programs.

[FR Doc. 03-29187 Filed 11-25-03; 8:45 am]

BILLING CODE 6560-50-S